FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, if any, are available for immediate inspection at the Federal Reserve Bank indicated. The applications will also be available for inspection at the offices of the Board of Governors. Interested persons may express their views in writing on the standards enumerated in the BHC Act (12 U.S.C. 1842(c)).

Comments regarding each of these applications must be received at the Reserve Bank indicated or the offices of the Board of Governors, Ann E. Misback, Secretary of the Board, 20th and Constitution Avenue NW, Washington, DC 20551-0001, not later than November 4, 2019.

A. Federal Reserve Bank of Kansas City (Dennis Denney, Assistant Vice President) 1 Memorial Drive, Kansas City, Missouri 64198-0001:

1. Cornerstone Bank, York, Nebraska; to become a bank holding company by acquiring Malmo Bancorp, Inc., parent holding company of Security Home Bank, both of Malmo, Nebraska. In addition, First York Ban Corp, York, Nebraska, through its subsidiary, Cornerstone Bank, York, Nebraska, to acquire Malmo Bancorp, Inc., parent holding company of Security Home Bank, both of Malmo, Nebraska.

B. Federal Reserve Bank of Dallas (Robert L. Triplett III, Senior Vice President) 2200 North Pearl Street, Dallas, Texas 75201-2272:

1. Third Coast Bancshares, Inc., Humble, Texas; to acquire Heritage Bancorp, Inc., parent holding company of Heritage Bank, both of Pearland, Texas.

C. Federal Reserve Bank of Boston (Prabal Chakrabarti, Senior Vice President) 600 Atlantic Avenue, Boston, Massachusetts 02210-2204. Comments can also be sent electronically to BOS.SRC.Applications.Comments@bos.frb.org:

1. NB Financial, MHC and NB Financial, Inc., both of Needham, Massachusetts; to become a mutual bank holding company and a mid-tier stock bank holding company, respectively, by acquiring Needham Bank, Needham, Massachusetts, in connection with the conversion of Needham Bank from mutual to stock form.

Board of Governors of the Federal Reserve System, September 27, 2019.
Yao-Chin Chao,
Assistant Secretary of the Board.

[FR Doc. 2019-21455 Filed 10-1-19; 8:45 am]

BILLING CODE P